DEPARTMENT OF TRANSPORTATION

Federal Aviation Administration

Airworthiness Approval of Global Navigation Satellite System (GNSS) Equipment

AGENCY: Federal Aviation Administration, DOT.

ACTION: Amended notice of availability and request for public comment.

SUMMARY: This amended notice announces the availability of and requests comments on a revised draft Advisory Circular (AC) 20-138A, Airworthiness Approach of Global Navigation Satellite System (GNSS) Equipment. This notice was amended to change the Web site address for obtaining a copy, because the previous Web site address was incorrect. The draft AC on GNSS equipment addresses the following types of installations:

a. GNSS sensors, including those incorporating Wide Area Augmentation System (WAAS), Local Area Augmentation System (LAAS), or the Russian Global Navigation Satellite System (GLONASS).

b. GNSS stand-alone navigation equipment that provides deviations (including Category 1 precision approach).

DATES: Comments submitted must be received on or before September 25, 2002.

ADDRESSES: Send all comments on the proposed advisory circular to: Federal Aviation Administration (FAA), Aircraft Certification Service, Aircraft Engineering Division, Avionics Systems Branch, AIR-130, 800 Independence Avenue, SW., Washington, DC 20591. Or deliver comments to: Federal Aviation Administration, Room 815, 800 Independence Avenue, SW., Washington, DC 20591.

FOR FURTHER INFORMATION CONTACT: Bruce DeCleene, Federal Aviation Administration (FAA), Aircraft Certification Service, Aircraft Engineering Division, Avionic Systems Branch, AIR-130, 800 Independence Avenue, SW., Washington, DC 20591, Telephone: (202) 385-4640, FAX: (202) 267-5340.

SUPPLEMENTARY INFORMATION:

Comments Invited

Interested persons are invited to comment on the draft AC listed in this notice by submitting such written data, views, or arguments, as they desire, to the aforementioned specified address. Comments must be marked “Comments to AC 20-138A.” Comments received on the draft advisory circular may be examined, both before and after the closing date, in Room 815, FAA Headquarters Building (FOB-10A), 800 Independence Avenue, SW., Washington, DC 20591, weekdays except Federal holidays, between 8:30 a.m. and 4:30 p.m. All communications received on or before the closing date for comments specified will be considered by the Director of the Aircraft Certification Service before issuing the final AC.

Background

The FAA is developing a new Advisory Circular, AC 20-138A, Airworthiness Approval of Global Navigation Satellite System (GNSS) Equipment. This advisory circular (AC) provides guidance material for the airworthiness approval of all types of GNSS equipment. This revision to the current AC is in support of the deployment of the Wide Area Augmentation System (WAAS) and the Local Area Augmentation System (LAAS). WAAS services will be commissioned in 2003, providing en route, terminal area, and approach navigation. WAAS avionics may be approved under an authorization to Technical Standard Order (TSO) C-1145a, GPS/WAAS Sensors, or TSO-C146a, GPS/WAAS Stand Alone Navigation Equipment. This equipment may be installed prior to the commissioning of WAAS, and this AC is needed to provide the unique policy applicable to such installations. In addition, the LAAS will become operational in 2004. LAAS guidance is included in this AC to support the early installation of the associated avionics.

How To Obtain Copies

A copy of the revised draft AC may be obtained using the Internet Web site address http://wwww.airweb.faa.gov/RGL or you may request a copy from the individual listed under FOR FURTHER INFORMATION CONTACT.

Issued in Washington, DC.
Kimberly K. Smith,
Acting Deputy Manager, Aircraft Engineering Division, Aircraft Certification Service.

[FR Doc. 02-21787 Filed 8-29-02; 8:45 am]

BILLING CODE 4910-13-M